DEPARTMENT OF EDUCATION

[Docket No.: ED-2024-SCC-0074]

Agency Information Collection Activities; Submission to the Office of Management and Budget for Review and Approval; Comment Request; National Center for College Students With Disabilities (NCCSD) Database of Disability Services and Activities in Higher Education

AGENCY: Office of Postsecondary Education (OPE), Department of Education (ED).

ACTION: Notice.

SUMMARY: In accordance with the Paperwork Reduction Act (PRA) of 1995, the Department is proposing a revision of a currently approved information collection request (ICR).

DATES: Interested persons are invited to submit comments on or before September 9, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Shedita Alston, 202-453-7090.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Center for College Students with Disabilities (NCCSD) Database of Disability Services and Activities in Higher Education.

OMB Control Number: 1840-0841.

Type of Review: A revision of a currently approved ICR.

Respondents/Affected Public: State, Local, and Tribal Governments; Private Sector.

Total Estimated Number of Annual Responses: 5,916.

Total Estimated Number of Annual Burden Hours: 17,748.

Abstract: The National Center for College Students with Disabilities (NCCSD) at the University of Minnesota and originated by the Association on Higher Education and Disability (AHEAD) is authorized by Congress in the Higher Education Opportunity Act of 2008 (777.4) and was established in 2016. The NCCSD College Disability Resource Database is designed to address a gap in information about services and accessibility for college students with disabilities, who make up 19.5% of the undergraduate population. Existing general information about colleges is available in the Department of Education's online College Navigator and College Affordability and Transparency Center, but the only information about students with disabilities in these databases is the percentage of students registered with campus disability services offices. At this time, this is the only database that provide systematic collection of information about campus-level disability-related services, access, and activities at colleges and universities in the United States. The NCCSD survey asks all U.S. campuses to provide basic information about disability services, accessibility of campus, and disability-related activities that may affect inclusion and the campus climate. The data is available to the public in an accessible and searchable database to help prospective college students and their families make informed decisions during the college search process. Because the database is public, researchers and policymakers are able to utilize the data to gather information about disability and higher education in systematic ways.

The Department is requesting a revision of the survey for the following reasons: to add non-degree-granting institutions of higher education to the respondent universe; to change the timeframe for and revise one question; to revise the possible responses to one question; and to add three new questions regarding faculty/instructor disability training.

Dated: August 5, 2024.
Kun Mullan,
PRA Coordinator, Strategic Collections and Clearance, Governance and Strategy Division, Office of Chief Data Officer, Office of Planning, Evaluation and Policy Development.

[FR Doc. 2024-17616 Filed 8-7-24; 8:45 am]

BILLING CODE 4000-01-P